DEPARTMENT OF LABOR

Mine Safety and Health Administration

Petitions for Modification

The following parties have filed petitions to modify the application of existing safety standards under section 101(c) of the Federal Mine Safety and Health Act of 1977.

1. The Coteau Properties Company

[Docket No. M-2004-009-C]

The Coteau Properties Company, 204 County Road 15, Beulah, North Dakota 58523-9475 has filed a petition to modify the application of 30 CFR 77.803 (Fail safe ground check circuits on high-voltage resistance grounded systems) to its Freedom Mine (MSHA I.D. No. 32-00595) located in Mercer County, North Dakota. The petitioner requests a modification of the existing standard to allow an alternative method of compliance when the boom/mast is raised or lowered during construction/maintenance, most likely only during disassembly or major maintenance. The petitioner proposes to use this procedure only to raise or lower the boom/mast on draglines using the on-board motor generator sets. The petitioner states that during this period of construction/maintenance, the machine will not move under its own power and will not perform mining operations. The procedure would most likely be used only in instances of disassembly or major maintenance, which require the boom to be raised or lowered, and a written procedure would be developed and implemented by the mine operator or contractor and the affected persons will be trained on the requirements of the procedure. The petitioner further states that this procedure does not replace other mechanical precautions or the requirements of 30 CFR 77.405(b) that are necessary to safely secure booms/masts during construction or maintenance procedures. The petitioner asserts that its proposed alternative method would not result in a diminution of safety to the miners.

2. TXU-Mining Company LP

[Docket No. M-2004-010-C]

TXU-Mining Company LP, 1601 Bryan Street, Dallas, Texas 75201-3411 has filed a petition to modify the application of 30 CFR 77.803 (Fail safe ground check circuits on high-voltage resistance grounded systems) to its Big Brown Strip Mine (MSHA I.D. No.41-01192) located in Freestone County, Texas; Winfield North Strip Mine (MSHA I.D. No. 41-01900) and Winfield South Strip Mine (MSHA I.D. No. 41-03658) located in Titus County, Texas; Beckville Strip Mine (MSHA I.D. No. 41-02632) and Tatum Strip Mine (MSHA I.D. No. 41-03659) located in Panola County, Texas; and Oak Hill Strip Mine (MSHA I.D. No. 41-03660) located in Rusk County, Texas. The petitioner requests a modification of the existing standard to allow an alternative method of compliance when the boom/mast is raised or lowered during necessary repairs. The petitioner states that during the procedure for raising and lowering the boom for construction/maintenance, the machine will not be performing mining operations. The procedure would also be applicable in instances of disassembly or major maintenance which require the boom to be raised or lowered. The petitioner further states that the procedures of raising and lowering the boom/mast during disassembly or major maintenance would be performed on an as needed basis; and training and review of the procedures would be conducted prior to each time it is needed since raising and lowering the boom is done infrequently with long intervals of time between each occurrence, and all persons involved in the process will be trained or retrained at that time. The petitioner has listed specific guidelines in this petition that would be followed to minimize the potential for electrical power loss during this critical boom procedure. The petitioner asserts that this procedure does not replace other mechanical precautions or the requirements 30 CFR 77.405(b) that are necessary to safely secure boom/masts during construction or maintenance procedures and that its proposed alternative method would not result in a diminution of safety to the miners.

3. Speed Mining, Inc.

[Docket No. M-2004-011-C]

Speed Mining, Inc., 1001 Pennsylvania Avenue, NW., Washington, DC 20004-2595 has filed a petition to modify the application of 30 CFR 75.1700 (Oil and gas wells) to its American Eagle Mine (MSHA I.D. No. 46-05437) located in Kanawha County, West Virginia. The petitioner requests that its previously granted petition for modification, docket number M-2002-082-C, be amended to permit the mining through of certain wells located within the projected workings of the Speed Mining, Inc., American Eagle Mine. The petitioner requests an amendment to the petition, but requests that no portion of the existing modification be revoked. The petitioner is requesting the petition to be amended because the existing modification does not address certain kinds of wells and plugging conditions that it expects to encounter imminently at the American Eagle Mine. The petitioner asserts that the granting of this petition to amend would at all times guarantee no less than the same measure of protection as the existing standard or the alternative requirements in Paragraph 1 of the existing modification and will prevent a diminution of safety to the miners.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before April 22, 2004. Copies of these petitions are available for inspection at that address.

Dated at Arlington, Virginia this 17th day of March, 2004.
Marvin W. Nichols, Jr.,
Director, Office of Standards, Regulations, and Variances.

[FR Doc. 04-6400 Filed 3-22-04; 8:45 am]

BILLING CODE 4510-43-P